DEPARTMENT OF TRANSPORTATION

Federal Aviation Administration

14 CFR Part 39

[Docket No. 2002-NE-22-AD; Amendment 39-13369; AD 2003-23-05]

RIN 2120-AA64

Airworthiness Directives; Titeflex Corporation; Correction

AGENCY: Federal Aviation Administration, DOT.

ACTION: Final rule; correction.

SUMMARY: This document makes corrections to Airworthiness Directive (AD) 2003-23-05 applicable to certain Titeflex Corporation hoses installed on Boeing 737-300, -400, -500, -600, -700, -700C, -800, -900, 747-400, 757-200, -300, 767-200, -300, and -300F airplanes, that was published in the Federal Register on November 19, 2003 (68 FR 65157). The AD number is incorrect in the Preamble Section and in the Regulatory Section five corrections are needed in Table 1. This document corrects these errors. In all other respects, the original document remains the same.

EFFECTIVE DATE: Effective December 30, 2003.

FOR FURTHER INFORMATION CONTACT: Terry Fahr, Aerospace Engineer, Boston Aircraft Certification Office, FAA, Engine and Propeller Directorate, 12 New England Executive Park, Burlington, MA 01803-5299; telephone (781) 238-7155; fax (781) 238-7199.

SUPPLEMENTARY INFORMATION: A final rule AD, FR Doc. 03-28730, applicable to certain Titeflex Corporation hoses installed on Boeing 737-300, -400, -500, -600, -700, -700C, -800, -900, 747-400, 757-200, -300, 767-200, -300, and -300F airplanes, was published in the Federal Register on November 19, 2003 (68 FR 65157). The following corrections are needed:

§ 39.13 [Corrected]

On page 65157, in the first column, in the Preamble Section, in the fifth line, “39-13369; AD 2003-23-05-AD “ is corrected to read “39-13369; AD 2003-23-05”. Also, on page 65158, in Table 1, the following changes are made:

In the fifth column, for item (2) 737-600, -700, -700C, -800, and -900 airplanes, first line, “737-26A1109, Revision 12, dated May 8, 2003” is corrected to read “737-26A1109, Revision 2, dated May 8, 2003”.

In the second column, for item (3) 747-400 airplanes, “BACH5R0186XX” is corrected to read “BACH5S0186XX” and “BACH5S0080YY” is deleted.

In the second column, for item (4) 757-200 airplanes, under BACH5S0110XN, add “No number” and add in the third column on the same line, “109422”.

Also, on page 65159, in Table 1, in the second column, for item (5) 757-300 airplanes, under BACH5S0074XN, add: “Optional 453N2240-33”

Issued in Burlington, MA, on December 19, 2003.
Peter A. White,
Assistant Manager, Engine and Propeller Directorate, Aircraft Certification Service.

[FR Doc. 03-31850 Filed 12-29-03; 8:45 am]

BILLING CODE 4910-13-P